DEPARTMENT OF VETERANS AFFAIRS

Cost-Based and Inter-Agency Billing Rates for Medical Care or Services Provided by the Department of Veterans Affairs for Fiscal Year 2023

AGENCY: Department of Veterans Affairs.

ACTION: Notice.

SUMMARY: This document updates the Cost-Based and Inter-Agency billing rates for medical care or services provided by the U.S. Department of Veterans Affairs (VA) furnished in certain circumstances.

DATES: The rates set forth herein are effective October 1, 2022.

FOR FURTHER INFORMATION CONTACT: Ms. Debra Vatthauer, Office of Finance, Revenue Operations, Payer Relations and Services, Rates and Charges (104RO1), Veterans Health Administration, Department of Veterans Affairs, 128 Bingham Road, Suite 1000, Asheville, NC 28806; telephone: 608-821-7346 (this is not a toll-free number).

SUPPLEMENTARY INFORMATION: VA's methodology for computing Cost-Based and Inter-Agency rates for medical care or services provided by VA is set forth in 38 CFR 17.102(h). Two sets of rates are obtained by applying this methodology, Cost-Based and Inter-Agency.

Cost-Based rates apply to medical care and services that are provided by VA under 38 CFR 17.102(a), (b), (d) and (g), respectively, in the following circumstances:

• In error or based on tentative eligibility;

• In a medical emergency;

• To pensioners of allied nations; and

• For research purposes in circumstances under which the medical care appropriation shall be reimbursed from the research appropriation.

Inter-Agency rates apply to medical care and services that are provided by VA under § 17.102(c) and (f), respectively, in the following circumstances when the care or services provided are not covered by any applicable sharing agreement in accordance with § 17.102(e):

• To beneficiaries of the Department of Defense or other Federal agencies; and

• To military retirees with chronic disability.

The calculations for the Cost-Based and Inter-Agency rates are the same with two exceptions. Inter-Agency rates are all-inclusive and are not broken down into three components (i.e., Physician; Ancillary; and Nursing Room and Board), and do not include standard fringe benefit costs that cover Government employee retirement, disability costs and return on fixed assets.

The following table depicts the Cost-Based and Inter-Agency rates that are effective October 1, 2022, and will remain in effect until the next fiscal year Federal Register update. These rates supersede those established by the Federal Register notice published on August 4, 2021, at 86 FR 42015.

| Cost-based rates | Inter-agency rates
A. Hospital Care per inpatient day:
General Medicine:
All Inclusive Rate | $5,724 | $5,630
Physician | 685 |
Ancillary | 1,492 |
Nursing Room and Board | 3,547 |
Neurology:
All Inclusive Rate | 4,969 | 4,885
Physician | 727 |
Ancillary | 1,312 |
Nursing Room and Board | 2,930 |
Rehabilitation Medicine:
All Inclusive Rate | 4,254 | 4,179
Physician | 483 |
Ancillary | 1,300 |
Nursing Room and Board | 2,471 |
Blind Rehabilitation:
All Inclusive Rate | 4,249 | 4,171
Physician | 342 |
Ancillary | 2,111 |
Nursing Room and Board | 1,796 |
Spinal Cord Injury:
All Inclusive Rate | 4,396 | 4,318
Physician | 545 |
Ancillary | 1,106 |
Nursing Room and Board | 2,745 |
Surgery:
All Inclusive Rate | 9,923 | 9,761
Physician | 1,094 |
Ancillary | 3,010 |
Nursing Room and Board | 5,819 |
General Psychiatry:
All Inclusive Rate | 3,575 | 3,510
Physician | 337 |
Ancillary | 563 |
Nursing Room and Board | 2,675 |
Substance Abuse (Alcohol and Drug Treatment):
All Inclusive Rate | 3,631 | 3,565
Physician | 346 |
Ancillary | 840 |
Nursing Room and Board | 2,445 |
Psychosocial Residential Rehabilitation Program:
All Inclusive Rate | 521 | 512
Physician | 33 |
Ancillary | 55 |
Nursing Room and Board | 433 |
Intermediate Medicine:
All Inclusive Rate | 3,906 | 3,841
Physician | 192 |
Ancillary | 573 |
Nursing Room and Board | 3,141 |
Poly-trauma Inpatient:
All Inclusive Rate | 4,765 | 4,673
Physician | 541 |
Ancillary | 1,456 |
Nursing Room and Board | 2,768 |
B. Nursing Home Care, Per Day:
All Inclusive Rate | 2,314 | 2,273
Physician | 72 |
Ancillary | 313 |
Nursing Room and Board | 1,929 |
C. Outpatient Medical Treatments:
Outpatient Visit (to include Ineligible Emergency Dental Care) | 453 | 446
Outpatient Physical Medicine & Rehabilitation Service Visit | 366 | 359
Outpatient Poly-trauma/Traumatic Brain Injury | 673 | 663
Note: Outpatient Prescriptions will be billed at Drug Cost plus Administrative Fee.

Signing Authority

Denis McDonough, Secretary of Veterans Affairs, approved this document on September 7, 2022, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2022-19739 Filed 9-12-22; 8:45 am]

BILLING CODE 8320-01-P